DEPARTMENT OF THE INTERIOR

Bureau of Land Management

[ES-020-1310-EI]

Notice of Intent To Prepare a Planning Analysis/Environmental Assessment

AGENCY: Bureau of Land Management, Interior.

ACTION: Notice of Intent to Prepare a Planning Analysis/Environmental Assessment (PA/EA).

SUMMARY: The Bureau of Land Management, Eastern States, Jackson Field Office, announces its intent to prepare a PA/EA in cooperation with the U.S. Army Corps of Engineers (COE), Louisville, Kentucky, to consider leasing Federal mineral estate for oil and gas exploration and development. The PA/EA is being prepared in response to an expression of interest (EOI) from the public. The EOI requests leasing without the right of surface occupancy. The lands, managed by the U.S. Army Corps of Engineers, are within the Nolin Lake Project in Edmonson, Grayson, and Hart Counties, Kentucky. This notice is issued pursuant to title 40 Code of Federal Regulations (CFR) 1501.7 and Title 43 CFR 1610.2 (c). The planning effort will follow the procedures set forth in Title 43 CFR part 1600. The public is invited to participate in this planning process, beginning with the identification of planning issues and criteria.

DATES: Comments relating to the identification of planning issues and criteria will be accepted for thirty days from the date of this publication. Individual respondents may request confidentiality. If you wish to withhold your name or street address from public review or from disclosure under the Freedom of Information Act, you must state this prominently at the beginning of your written comments. Such requests will be honored to the extent allowed by law. All submissions from organizations and businesses, and from the individuals identifying themselves as representatives or officials of organizations or businesses, will be available for public inspection in their entirety.

ADDRESSES: Send written comments to Bureau of Land Management (ATTN: Sid Vogelpohl), Jackson Field Office; 411 Briarwood Dr., Suite 404; Jackson, MS 39206. Submit electronic comments to Sid_Vogelpohl@blm.gov.

FOR FURTHER INFORMATION CONTACT: Sid Vogelpohl at (601) 977-5402.

SUPPLEMENTARY INFORMATION: The BLM has responsibility to consider EOIs to lease Federal mineral estate for oil and gas exploration and development. Directional wells may be drilled into the Nolin Lake property at depth (4,000 feet) from privately owned property adjoining tracts managed by the COE. No surface equipment or drilling locations would be on COE-managed property. Subject to completion of the PA/EA, the COE has consented to leasing without the right for surface occupancy.

The area being addressed, along with acreage, is identified below.

Legal Description: Acquired Lands within Segments 7 through 17 and Segments 22 through 28 within the Nolin Lake Project. Total acreage is 6,731 acres.

An interdisciplinary team will prepare the PA/EA. Preliminary issues, subject to change as a result of public input, are as follows: (1) Potential impacts of oil and gas exploration and development on the surface resources and uses by the COE; and (2) consideration of restrictions on lease rights to protect surface resources and uses by the COE.

Preliminary planning criteria developed to guide the preparation of this PA are listed below. These criteria may be refined by public input.

1. Land use planning and environmental analysis will be conducted in accordance with laws, regulations, executive orders and manuals. Planning will be conducted for the oil and gas mineral estate (leaseable mineral estates, such as, oil and gas; are under the administration of the BLM).

2. A reasonable foreseeable development scenario will be prepared for the exploration and development of oil and gas resources (if any) under the identified land. The surface estate is managed by the COE.

3. Resource data needed to evaluate the impacts of foreseeable oil and gas exploration and development will be collected.

4. The planning team will work cooperatively with (a) federal, state, county and local governments and agencies, (b) tribal governments, (c) groups and organizations and (d) individuals.

Comments relating to the preliminary issues and planning criteria (listed above) should be submitted in writing to the address provided above. Due to the limited scope of this PA/EA process, public meetings are not scheduled.

Dated: May 8, 2003.
Bruce E. Dawson,
Field Manager, Jackson Field Office.

[FR Doc. 03-15606 Filed 6-19-03; 8:45 am]

BILLING CODE 4310-GJ-P